DEPARTMENT OF AGRICULTURE

Rural Telephone Bank

Sunshine Act Meeting

AGENCY: Rural Telephone Bank, USDA.

ACTION: Staff Briefing for the Board of Directors.

TIME AND DATE: 2:00 p.m., Thursday, November 16, 2000.

PLACE: Room 0204, South Building, Department of Agriculture, 1400 Independence Avenue, SW, Washington, DC.

STATUS: Open.

MATTERS TO BE DISCUSSED: 1. Current telecommunications industry issues.

2. Status of PBO planning.

3. Contracts for financial and legal advisors to the Privatization Committee.

4. Allowance for loan losses reserve.

5. Schedule for stockholders' meeting in year 2001.

6. Administrative issues.

ACTION: Board of Directors Meeting.

TIME AND DATE: 9:00 a.m., Friday, November 17, 2000.

PLACE: Room 104-A, The Williamsburg Room, Department of Agriculture, 12th Jefferson Drive, SW, Washington, DC.

STATUS: Open.

MATTERS TO BE CONSIDERED: The following matters have been placed on the agenda for the Board of Directors meeting:

1. Call to order.

2. Report on board election results.

3. Oath of office.

4. Election of board officers: Chairperson, Vice Chair, Secretary, and Treasurer.

5. Action on Minutes of the August 4, 2000, board meeting.

6. Report on loans approved in FY 2000.

7. Report on financial activity for FY 2000.

8. Report on the allowance for loan losses reserve.

9. Privatization Committee report.

10. Consideration of resolution to reestablish the Privatization Committee.

11. Consideration of resolution to approve Anthony Haynes to serve as the Deputy Governor of the Bank.

12. Establish date and location of next board meeting.

13. Adjournment.

CONTACT PERSON FOR MORE INFORMATION: Roberta D. Purcell, Assistant Governor, Rural Telephone Bank, (202) 720-9554.

Dated: November 2, 2000.
Anthony C. Haynes,
Acting Governor, Rural Telephone Bank.

[FR Doc. 00-28662 Filed 11-3-00; 2:43 pm]

BILLING CODE 3410-15-P